DEPARTMENT OF ENERGY

Federal Energy Regulatory Commission

Notice of Application for Amendment of License and Soliciting Comments, Motions To Intervene, and Protests

May 19, 2006.

Take notice that the following application has been filed with the Commission and is available for public inspection:

a. Type of Application: Request for Non-Capacity Amendment of License.

b. Project No: 4885-056.

c. Date Filed: April 10, 2006.

d. Applicant: Twin Falls Hydro Associates, L.P.

e. Name of Project: Twin Falls Hydroelectric Project.

f. Location: South Fork Snoqualmie River, King County, Washington.

g. Filed Pursuant to: 18 CFR 4.200.

h. Applicant Contact: Kevin Webb, Twin Falls Hydro Associates, L.P., c/o Enel North American, Inc., One Tech Drive, Suite 220, Andover, MA 01810. (978) 681-1900.

i. FERC Contact: John K. Novak, john.novak@ferc.gov, (202) 502-6076.

j. Deadline for Filing Comments, Motions to Intervene and Protest: June 19, 2006.

k. Description of Application: The licensee is requesting an amendment of license regarding the minimum flow requirements for the bypassed reach as specified in Article 35. Currently, Article 35 requires the release of 75 cubic feet per second (cfs) or inflow whichever is less August 1 through April 30 and 150 cfs or inflow whichever is less May 1 through July 31. The licensee is requesting that it be allowed to release 75 cfs or inflow whichever is less year round. The results of studies conducted by the licensee indicate that 75 cfs provides adequate protection for the aquatic resources in the bypassed reach. Implementation of the Aquatic Mitigation Plan under Article 37 may no longer be necessary with any release of a permanent 75 cfs year round flow. The licensee has filed an application to amend the Water Quality Certificate with the Washington Department of Ecology.

l. Location of the Application: The filing is available for inspection and review at the Commission's Public Reference Room, located at 888 First Street, NE., Room 2A, Washington, DC 20426 or by calling (202) 502-8371. This filing may also be viewed on the Commission's Web site at http://www.ferc.gov using the “eLibrary” link. Enter the docket number (excluding the last three digits) into the “Docket Number” field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the addresses in item h.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers (P-4885-056). All documents (including an original and eight copies) should be filed with: Ms. Magalie R. Salas, Secretary, Federal Energy Regulatory Commission, 888 First Street NE., Washington, DC 20426. A copy of any motion to intervene must also be served upon each representative of the licensee specified in the particular application.

p. Agency Comments—Federal, state, and local agencies are invited to file comment on the described filing. A copy of the filing may be obtained by agencies directly from the licensee. If an agency does not file comments within the time specified for filing comments, it will be presumed to have no comments. One copy of an agency's comments must also be sent to the licensee's representatives.

q. Comments, protests, and interventions may be filed electronically via the internet in lieu of paper. See 18 CFR 385.2001(a)(1)(iii) and the instructions on the Commission's web site at http://www.ferc.fov under e-Filing link.

Magalie R. Salas,
Secretary.

[FR Doc. E6-8027 Filed 5-24-06; 8:45 am]

BILLING CODE 6717-01-P